DEPARTMENT OF LABOR

Employment and Training Administration

2001 National Research Conference; Call for Papers

AGENCY: Employment and Training Administration, Labor.

ACTION: Notice of request for information.

SUMMARY: This document requests empirical/non-empirical papers related to workforce development issues for the purpose of developing a comprehensive agenda for a National Research Conference to be convened in Washington, DC on June 26-27, 2001.

DATES: Papers submitted for inclusion in the agenda for the National Workforce Security Research Conference must be received by March 16, 2001.

ADDRESSES: Papers should be sent to the Office of Workforce Security, Employment and Training Administration, U.S. Department of Labor, 200 Constitution Avenue, NW., Room S-4231, Washington, DC 20210. Attention: Esther R. Johnson.

FOR FURTHER INFORMATION CONTACT: Esther R. Johnson, Office of Workforce Security, Employment and Training Administration, Room S-4231, U.S. Department of Labor, Washington, DC 20210, Email erjohnson@doleta.gov, telephone (202) 693-3165. This is not a toll-free number. To review previously published studies by the Office of Workforce Security, access via the Internet at http://wdr.doleta.gov/owsdrr/.

SUPPLEMENTARY INFORMATION:

A. Background

The Employment and Training Administration of the U.S. Department of Labor (DOL) is the Federal government agency responsible for implementing a national workforce security system that enables workers and employers to compete and succeed in an ever-changing economy. This is accomplished through the provision of world-class labor market information, job search assistance, training, and unemployment insurance benefits, to manage the risks associated with unemployment, declining income, and skill shortages. Its most recent effort, the implementation of the Workforce Investment Act, combines a variety of workforce development programs and initiatives under one umbrella—the One-Stop System—to effectively serve the needs of job-seekers, workers, and employers in the changing workforce development environment at the onset of the 21st century economy.

In light of major changes in the macro-economy that have taken place in the areas of technological transformation, increasing globalization, and changing demographics over recent years, and the resulting effects of rising workforce insecurity, the Office of Workforce Security, Employment and Training Administration, will hold its first national research conference. The conference will focus on issues related to impacts, trends, and challenges of the macro-economy to workforce development, the significance of recent changes in workforce development, workforce competitiveness in global economy, workforce security in our new economy, and major policy options to promote economic opportunities for our workforce.

B. Information Requested

This is a call for empirical/non-empirical papers related to workforce development issues. We are seeking recently completed papers and papers that will be completed prior to the conference. We encourage contributions by researchers from academia, State or local agencies, business organizations, labor associations, research consulting firms, and other organizations. Possible topics may include, but are not limited to:

1. Unemployment Insurance Program—(program administration, benefit coverage, benefit duration, benefit eligibility, contingent workers, benefit financing, economic stabilization, recipiency rate, contingent workers, dislocated workers, telephone remote claims);

2. Employment Services—(labor exchange services, labor market information and emerging labor markets, the role of labor market intermediaries, worker profiling and reemployment services, the role of self-directed services, the role of the private sector in training and reemployment services, and bridging the gap between skills and employer needs);

3. One-Stop System—(administration, program linkages/connectivity, financing, innovative strategies for providing services);

4. Assisting low-wage workers—(role of workforce development system in assisting low-wage, female, and informal sector labor force);

5. Welfare Reform—(impact on and connection to workforce development programs); and

6. Technology and labor market—(role of Internet in job search and employment services, labor market mobility, training, technology and job creation).

All papers submitted will be reviewed by a panel of DOL experts in the workforce development arena, and presenters will be notified if their papers are selected. Papers selected for the conference will be published as part of our OWS Occasional Paper Series. Travel and accommodation expenses for invited presenters will be paid by the Office of Workforce Security. If interested, please submit your paper/abstract in hard copy and diskette/CD (Word Perfect or Word) by March 16, 2001. Papers should be doubled-spaced and single-sided. You will be notified by April 4, 2001 if your paper is selected; you will have to confirm your attendance by April 10, 2001. We also encourage submitting abstracts for papers that have not yet been completed, but will be completed before the deadline for submission of papers. Consistent with 5 CFR 1320.3(h)(4), this is a general solicitation of information from the general public.

C. Public Participation

The Conference will be held on June 26 and 27, 2001 in Washington, D.C. This Conference is open to the public; there is no registration fee. For registration information, please contact H.M.A Associates, Inc., 1000 Thomas Jefferson St., NW, Suite 309, Washington, DC, 20007, Attn: Peggie Edwards-Jefferies or email them at HMASSOC@worldnet.att.net.

Signed at Washington, DC, this 19th day of January, 2001.
Raymond L. Bramucci,
Assistant Secretary, Employment and Training Administration.

[FR Doc. 01-3394 Filed 2-8-01; 8:45 am]

BILLING CODE 4510-30-P